DEPARTMENT OF THE TREASURY

Bureau of Alcohol, Tobacco and Firearms

27 CFR Parts 4, 5, 7, 19, 20, 22, 24, 25, 26, 27, 70, and 251

[T.D. ATF—479]

RIN 1512-AC47

Importation of Distilled Spirits, Wines, and Beer; Recodification of Regulations (2000R-247P)

AGENCY: Bureau of Alcohol, Tobacco and Firearms (ATF), Department of the Treasury.

ACTION: Final rule (Treasury decision).

SUMMARY: The Bureau of Alcohol, Tobacco and Firearms (ATF) is recodifying the regulations pertaining to the importation of distilled spirits, wines, and beer. The purpose of this recodification is to reissue the regulations in part 251 of title 27 of the Code of Federal Regulations (27 CFR part 251) as 27 CFR part 27. This change improves the organization of title 27.

DATES: This rule is effective on May 8, 2002.

FOR FURTHER INFORMATION CONTACT: Jennifer Berry, Regulations Division, Bureau of Alcohol, Tobacco and Firearms, 111 W. Huron Street, Room 219, Buffalo, New York, (716) 434-8039.

SUPPLEMENTARY INFORMATION:

Background

As a part of continuing efforts to reorganize the part numbering system of title 27 CFR, ATF is removing part 251, Importation of Distilled Spirits, Wines, and Beers, in its entirety, and is recodifying the regulations as 27 CFR part 27. This change improves the organization of title 27 CFR. ATF intends to update and clarify the regulations in this part, but believes that such revisions would be best undertaken at a later time through a notice of proposed rulemaking with public comment.

Derivation Table for Part 27
The requirements of sec. | Are derived from sec.
Subpart A
27.1 | 251.1
27.2 | 251.2
27.3 | 251.3
Subpart B
27.11 | 251.11
Subpart C
27.30 | 251.30
27.31 | 251.31
Subpart D
27.40 | 251.40
27.41 | 251.41
27.42 | 251.42
27.42a | 251.42a
27.43 | 251.43
27.44 | 251.44
27.45 | 251.45
27.46 | 251.46
27.48 | 251.48
27.48a | 251.48a
27.49 | 251.49
Subpart E
27.55 | 251.55
27.56 | 251.56
27.57 | 251.57
27.58 | 251.58
27.59 | 251.59
27.60 | 251.60
27.61 | 251.61
27.62 | 251.62
27.74 | 251.74
27.75 | 251.75
27.76 | 251.76
27.77 | 251.77
Subparts F-G [Reserved]
Subpart H
27.120 | 251.120
27.121 | 251.121
Subpart I
27.133 | 251.133
27.134 | 251.134
27.136 | 251.136
27.137 | 251.137
27.138 | 251.138
27.139 | 251.139
Subparts J-K [Reserved]
Subpart L
27.171 | 251.171
27.172 | 251.172
27.173 | 251.173
27.174 | 251.174
27.175 | 251.175
Subpart M
27.181 | 251.181
27.182 | 251.182
27.183 | 251.183
27.184 | 251.184
27.185 | 251.185
Subpart N
27.201 | 251.201
27.202 | 251.202
27.204 | 251.204
27.206 | 251.206
27.207 | 251.207
27.208 | 251.208
27.209 | 251.209
Subpart O
27.221 | 251.221

Paperwork Reduction Act

The provisions of the Paperwork Reduction Act of 1995, Public Law 104-13, 44 U.S.C. Chapter 35, and its implementing regulations, 5 CFR part 1320, do not apply to this final rule because there are no new or revised recordkeeping or reporting requirements.

Regulatory Flexibility Act

Because no notice of proposed rulemaking is required for this rule under the Administrative Procedure Act (5 U.S.C. 553), the provisions of the Regulatory Flexibility Act (5 U.S.C. 601 et seq.) do not apply. We sent a copy of this final rule to the Chief Counsel for Advocacy of the Small Business Administration for comment in accordance with 26 U.S.C. 7805(f); we received no comments.

Executive Order 12866

This final rule is not a significant regulatory action as defined in Executive Order 12866. Accordingly, this final rule is not subject to the analysis required by this Executive Order.

Administrative Procedure Act

Because this final rule merely makes technical amendments to improve the clarity and organization of the regulations, it is unnecessary to issue this final rule with notice and public comment procedure under 5 U.S.C. 553(b). Similarly, because this final rule makes no substantial changes and is merely the recodification of existing regulations, good cause is found that it is unnecessary to subject this final rule to the effective date limitation of 5 U.S.C. 553(d).

Drafting Information

The principal author of this document is Jennifer Berry, Regulations Division, Bureau of Alcohol, Tobacco and Firearms.

List of Subjects

27 CFR Part 4

Advertising, Customs duties and inspection, Imports, Labeling, Liquors, Packaging and containers, Reporting and recordkeeping requirements, Trade practices, Wine.

27 CFR Part 5

Advertising, Customs duties and inspection, Imports, Labeling, Liquors, Packaging and containers, Reporting and recordkeeping requirements, Trade practices.

27 CFR Part 7

Advertising, Beer, Customs duties and inspection, Imports, Labeling, Reporting and recordkeeping requirements, Trade practices.

27 CFR Part 19

Caribbean Basin initiative, Claims, Electronic funds transfers, Excise taxes, Exports, Gasohol, Imports, Labeling, Liquors, Packaging and containers, Puerto Rico, Reporting and recordkeeping requirements, Research, Security measures, Surety bonds, Vinegar, Virgin Islands, Warehouses.

27 CFR Part 20

Alcohol and alcoholic beverages, Claims, Cosmetics, Excise taxes, Labeling, Packaging and containers, Penalties, Reporting and recordkeeping requirements, Surety bonds.

27 CFR Part 22

Administrative practice and procedure, Alcohol and alcoholic beverages, Excise taxes, Reporting and recordkeeping requirements, Surety bonds.

27 CFR Part 24

Administrative practice and procedure, Claims, Electronic funds transfers, Excise taxes, Exports, Food additives, Fruit juices, Labeling, Liquors, Packaging and containers, Reporting and recordkeeping requirements, Research, Scientific equipment, Spices and flavorings, Surety bonds, Vinegar, Warehouses, Wine.

27 CFR Part 25

Beer, Claims, Electronic funds transfers, Excise taxes, Exports, Labeling, Packaging and containers, Reporting and recordkeeping requirements, Research, Surety bonds.

27 CFR Part 26

Alcohol and alcoholic beverages, Caribbean Basin initiative, Claims, Customs duties and inspection, Electronic funds transfers, Excise taxes, Packaging and containers, Puerto Rico, Reporting and recordkeeping requirements, Surety bonds, Virgin Islands, Warehouses.

27 CFR Part 27

Alcohol and alcoholic beverages, Beer, Cosmetics, Customs duties and inspection, Electronic funds transfers, Excise taxes, Imports, Labeling, Liquors, Packaging and containers, Reporting and recordkeeping requirements, Wine.

27 CFR Part 70

Administrative practice and procedure, Claims, Excise taxes, Freedom of information, Law enforcement, Penalties, Reporting and recordkeeping requirements, Surety bonds.

27 CFR Part 251

Alcohol and alcoholic beverages, Beer, Cosmetics, Customs duties and inspection, Electronic funds transfers, Excise taxes, Imports, Labeling, Liquors, Packaging and containers, Reporting and recordkeeping requirements, Wine.

Authority and Issuance

For the reasons set forth in the preamble, ATF is amending chapter 1 of title 27 of the Code of Federal Regulations as follows:

PART 4—LABELING AND ADVERTISING OF WINE

Paragraph. 1. The authority citation for 27 CFR part 4 continues to read as follows:

Authority: 27 U.S.C. 205, unless otherwise noted.

Par. 2. Under “CROSS REFERENCES,” remove the reference to “27 CFR Part 251—Importation of Distilled Spirits, Wines and Beer” and add, in part number order, a reference to—27 CFR Part 27—Importation of Distilled Spirits, Wines and Beer”.

PART 5—LABELING AND ADVERTISING OF DISTILLED SPIRITS

Par. 3. The authority citation for 27 CFR part 5 continues to read as follows:

Authority: 26 U.S.C. 5301, 7805, 27 U.S.C. 205.

§ 5.2 [Amended]

Par. 4. Amend § 5.2 by removing the reference to “27 CFR Part 251—Importation of Distilled Spirits, Wines and Beer” and adding, in part number order, a reference to “27 CFR Part 27—Importation of Distilled Spirits, Wines and Beer”.

PART 7—LABELING AND ADVERTISING OF MALT BEVERAGES

Par. 5. The authority citation for 27 CFR part 7 continues to read as follows:

Authority: 27 U.S.C. 205.

§ 7.4 [Amended]

Par. 6. Amend § 7.4 by removing the reference to “27 CFR Part 251—Importation of Distilled Spirits, Wines and Beer” and adding, in part number order, a reference to “27 CFR Part 27—Importation of Distilled Spirits, Wines and Beer”.

PART 19—DISTILLED SPIRITS PLANTS

Par. 7. The authority citation for 27 CFR part 19 continues to read as follows:

Authority: 19 U.S.C. 81c, 1311; 26 U.S.C. 5001, 5002, 5004-5006, 5008, 5010, 5041, 5061, 5062, 5066, 5081, 5101, 5111-5113, 5142, 5143, 5146, 5171-5173, 5175, 5176, 5178-5181, 5201-5204, 5206, 5207, 5211-5215, 5221-5223, 5231, 5232, 5235, 5236, 5241-5243, 5271, 5273, 5301, 5311-5313, 5362, 5370, 5373, 5501-5505, 5551-5555, 5559, 5561, 5562, 5601, 5612, 5682, 6001, 6065, 6109, 6302, 6311, 6676, 6806, 7011, 7510, 7805; 31 U.S.C. 9301, 9303, 9304, 9306.

§ 19.3 [Amended]

Par. 8. Amend § 19.3 by removing the reference to “27 CFR Part 251—Importation of Distilled Spirits, Wine, and Beer” and adding, in part number order, a reference to “27 CFR Part 27—Importation of Distilled Spirits, Wine, and Beer”.

§ 19.524 [Amended]

Par. 9. Amend paragraphs (a)(1), (b)(1) and (b)(3) of § 19.524 by removing the reference to “parts 26 and 251” and adding, in its place, a reference to “parts 26 and 27”.

§ 19.538 [Amended]

Par. 10. Amend § 19.538(a)(1)(iii) by removing the reference to “part 251” and adding, in its place, a reference to “part 27”.

PART 20—DISTRIBUTION AND USE OF DENATURED ALCOHOL AND RUM

Par. 11. The authority citation for 27 CFR part 20 continues to read as follows:

Authority: 26 U.S.C. 5001, 5206, 5214, 5271-5275, 5311, 5552, 5555, 5607, 6065, 7805.

§ 20.3 [Amended]

Par. 12. Amend § 20.3 by removing the reference to “27 CFR Part 251—Importation of Distilled Spirits, Wines and Beer” and adding, in part number order, a reference to “27 CFR Part 27—Importation of Distilled Spirits, Wines and Beer”.

PART 22—DISTRIBUTION AND USE OF TAX-FREE ALCOHOL

Par. 13. The authority citation for 27 CFR part 22 continues to read as follows:

Authority: 26 U.S.C. 5001, 5121, 5142, 5143, 5146, 5206, 5214, 5271-5276, 5311, 5552, 5555, 6056, 6061, 6065, 6109, 6151, 6806, 7011, 7805; 31 U.S.C. 9304, 9306.

§ 22.3 [Amended]

Par. 14. Amend § 22.3 by removing the reference to “27 CFR Part 251—Importation of Distilled Spirits, Wines and Beer” and adding, in part number order, a reference to “27 CFR Part 27—Importation of Distilled Spirits, Wines and Beer”.

§ 22.171 [Amended]

Par. 15. Amend § 22.171(b) by removing the reference to “part 251” and adding, in its place, a reference to “part 27”.

PART 24—WINE

Par. 16. The authority citation for 27 CFR part 24 continues to read as follows:

Authority: 5 U.S.C. 552(a); 26 U.S.C. 5001, 5008, 5041, 5042, 5044, 5061, 5062, 5081, 5111-5113, 5121, 5122, 5142, 5143, 5173, 5206, 5214, 5215, 5351, 5353, 5354, 5356, 5357, 5361, 5362, 5364-5373, 5381-5388, 5391, 5392, 5511, 5551, 5552, 5661, 5662, 5684, 6065, 6091, 6109, 6301, 6302, 6311, 6651, 6676, 7011, 7302, 7342, 7502, 7503, 7606, 7805, 7851; 31 U.S.C. 9301, 9303, 9304, 9306.

§ 24.4 [Amended]

Par. 17. Amend § 24.4 by removing the reference to “27 CFR Part 251—Importation of Distilled Spirits, Wines and Beer” and adding, in part number order, a reference to “27 CFR Part 27—Importation of Distilled Spirits, Wines and Beer”.

§ 24.272 [Amended]

Par. 18. Amend paragraphs (a)(1), (b)(1), and (b)(3) in § 24.272, by removing the reference to “parts 26 and 251” and adding, in its place, a reference to “parts 26 and 27”.

PART 25—BEER

Par. 19. The authority citation for 27 CFR part 25 continues to read as follows:

Authority: 19 U.S.C. 81c; 26 U.S.C. 5002, 5051-5054, 5056, 5061, 5091, 5111, 5113, 5142, 5143, 5146, 5222, 5401-5403, 5411-5417, 5551, 5552, 5555, 5556, 5671, 5673, 5684, 6011, 6061, 6065, 6091, 6109, 6151, 6301, 6302, 6311, 6313, 6402, 6651, 6656, 6676, 6806, 7011, 7342, 7606, 7805; 31 U.S.C. 9301, 9303-9308.

§ 25.165 [Amended]

Par. 20. Amend paragraphs (a)(1), (b)(1), and (b)(3) of § 25.165 by removing the reference to “parts 26 and 251” and adding, in its place, a reference to “parts 26 and 27”.

PART 26—LIQUORS AND ARTICLES FROM PUERTO RICO AND THE VIRGIN ISLANDS

Par. 21. The authority citation for 27 CFR part 26 continues to read as follows:

Authority: 19 U.S.C. 81c; 26 U.S.C. 5001, 5007, 5008, 5010, 5041, 5051, 5061, 5081, 5111, 5112, 5114, 5121, 5122, 5124, 5131-5134, 5141, 5146, 5207, 5232, 5271, 5276, 5301, 5314, 5555, 6001, 6301, 6302, 6804, 7101, 7102, 7651, 7652, 7805; 27 U.S.C. 203, 205; 31 U.S.C. 9301, 9303, 9304, 9306.

§ 26.112a [Amended]

Par. 22. Amend § 26.112a as follows:

a. In paragraphs (a)(1), (b)(1) and (b)(3), remove the reference to “parts 19 and 251” and add, in its place, a reference to “parts 19 and 27”.

b. In paragraphs (a)(1), (b)(1) and (b)(3), remove the reference to “parts 240 and 251” and add, in its place, a reference to “parts 24 and 27”.

c. In paragraph (b)(1) and (b)(3), remove the reference to “parts 245 and 251” and add, in its place, a reference to “parts 25 and 27”.

d. In paragraph (a)(1), remove the reference to “parts 25 and 251” and add, in its place, a reference to “parts 25 and 27”.

§ 26.267 [Amended]

Par. 23. Amend paragraph (a) of § 26.267 as follows:

a. Remove the reference to “parts 19 and 251” and add, in its place, a reference to “parts 19 and 27”.

b. Remove the reference to “parts 240 and 251” and add, in its place, a reference to “parts 24 and 27”.

c. Remove the reference to “parts 25 and 251” and add, in its place, a reference to “parts 25 and 27”.

PART 70—PROCEDURE AND ADMINISTRATION

Par. 24. The authority citation for 27 CFR part 70 continues to read as follows:

Authority: 5 U.S.C. 301 and 552; 26 U.S.C. 4181, 4182, 5146, 5203, 5207, 5275, 5367, 5415, 5504, 5555, 5684(a), 5741, 5761(b), 5802, 6020, 6021, 6064, 6102, 6155, 6159, 6201, 6203, 6204, 6301, 6303, 6311, 6313, 6314, 6321, 6323, 6325, 6326, 6331-6343, 6401-6404, 6407, 6416, 6423, 6501-6503, 6511, 6513, 6514, 6532, 6601, 6602, 6611, 6621, 6622, 6651, 6653, 6656-6658, 6665, 6671, 6672, 6701, 6723, 6801, 6862, 6863, 6901, 7011, 7101, 7102, 7121, 7122, 7207, 7209, 7214, 7304, 7401, 7403, 7406, 7423, 7424, 7425, 7426, 7429, 7430, 7432, 7502, 7503, 7505, 7506, 7513, 7601-7606, 7608-7610, 7622, 7623, 7653, 7805.

§ 70.411 [Amended]

Par. 25. Amend § 70.411(c)(27) by removing the reference to “part 251” and adding, in its place, a reference to “part 27”.

PART 251—IMPORTATION OF DISTILLED SPIRITS, WINES, AND BEER

Par. 26. The authority citation for 27 CFR part 251 continues to read as follows:

Authority: 5 U.S.C. 552(a), 19 U.S.C. 81c, 1202; 26 U.S.C. 5001, 5007, 5008, 5010, 5041, 5051, 5054, 5061, 5111, 5112, 5114, 5121, 5122, 5124, 5201, 5205, 5207, 5232, 5273, 5301, 5313, 5555, 6302, 7805.

PART 251—[REDESIGNATED AS PART 27]

Par. 27. Transfer 27 CFR part 251 from subchapter M to subchapter A and redesignate as 27 CFR part 27.

PART 27—IMPORTATION OF DISTILLED SPIRITS, WINES, AND BEER

Par. 28. The authority citation for the newly redesignated 27 CFR part 27 continues to read as follows:

Authority: 5 U.S.C. 552(a), 19 U.S.C. 81c, 1202; 26 U.S.C. 5001, 5007, 5008, 5010, 5041, 5051, 5054, 5061, 5111, 5112, 5114, 5121, 5122, 5124, 5201, 5205, 5207, 5232, 5273, 5301, 5313, 5555, 6302, 7805.

Par. 29. Amend the newly redesignated part 27 as follows:

Amendment Table for Part 27
Amend section | By removing the reference to | And adding in its place
27.3 | Part 251 | Part 27.
27.11, definition of Appropriate ATF Officer | Part 251 | Part 27.
27.31 | 251.30 | 27.30.
27.40(c) | 251.40a | 27.41.
27.44 | 251.43 | 27.43.
27.74 (three times) | 251.49 | 27.49.
27.74 | 251.75 | 27.75.
27.76(c)(3) | 251.40a | 27.41.
27.77(a) | 251.76(c) | 27.76(c).
27.77(b)(1) | 251.76(b)(1) | 27.76(b)(1).
27.77(b)(2) | 251.76(b)(2) | 27.76(b)(2).
27.77(b)(3)(iii) | 251.40a | 27.41.
27.77(d) | 251.76(d) | 27.76(d).
27.120 | 251.133 | 27.133.
27.120 | 251.134 | 27.134.
27.133 | 251.134 | 27.134.
27.138 (Introductory text) | 251.172 | 27.172.
27.172 | 251.138 | 27.138.
27.172 | 251.139 | 27.139.
27.185(b) | 251.139 | 27.139.
27.208 | 251.206 | 27.206.

Signed: February 2, 2002.
Bradley A. Buckles,
Director.
Approved: April 9, 2002.
Timothy E. Skud,
Deputy Assistant Secretary (Regulatory, Tariff and Trade Enforcement).

[FR Doc. 02-11257 Filed 5-7-02; 8:45 am]

BILLING CODE 4810-31-P